DEPARTMENT OF THE INTERIOR

Fish and Wildlife Service

Receipt of Applications for Permit

AGENCY: Fish and Wildlife Service, Interior.

ACTION: Notice of receipt of applications for permit.

SUMMARY: The public is invited to comment on the following applications to conduct certain activities with endangered species.

DATES: Written data, comments or requests must be received by November 5, 2007.

ADDRESSES: Documents and other information submitted with these applications are available for review, subject to the requirements of the Privacy Act and Freedom of Information Act, by any party who submits a written request for a copy of such documents within 30 days of the date of publication of this notice to: U.S. Fish and Wildlife Service, Division of Management Authority, 4401 North Fairfax Drive, Room 700, Arlington, Virginia 22203; fax 703/358-2281.

FOR FURTHER INFORMATION CONTACT: Division of Management Authority, telephone 703/358-2104.

SUPPLEMENTARY INFORMATION:

Endangered Species

The public is invited to comment on the following applications for a permit to conduct certain activities with endangered species. This notice is provided pursuant to Section 10(c) of the Endangered Species Act of 1973, as amended (16 U.S.C. 1531 et seq.). Written data, comments, or requests for copies of these complete applications should be submitted to the Director (ADDRESSES above).

Applicant: Roberto Garza Delgado, Houston, TX, PRT-163044.

The applicant requests a permit to import the sport-hunted trophy of one male bontebok (Damaliscus pygargus pygargus) culled from a captive herd maintained under the management program of the Republic of South Africa, for the purpose of enhancement of the survival of the species.

Applicant: Dirk Arthur dba Stage Magic Inc, Las Vegas, NV, PRT-152105, 152106, 152108, 152110, 152111, 152112, 160974, 162725, and 162714.

The applicant requests the issuance of permits for the re-export and re-import of five captive-born tigers (Panthera tigris), and the export and re-import of three captive born Bengal tigers (Panthera tigris tigris) and one captive-born leopard (Panthera pardus), to and from worldwide locations for the purpose of enhancement of the species through conservation education. The permit numbers and animals are as follows: Tigers (the following were previously issued under permit 704301: 152105, Snow Magic; 152106, Bianca; 152108, Shabba; 152110, Sabrina; 152111, T.J.); Bengal tigers (160974, Kellar; 162714, Thurston; 162725, Ivory); and leopard (152112, Zorro). This notification covers activities to be conducted by the applicant over a three-year period and the import of any potential progeny born while overseas.

Applicant: Feld Entertainment, Inc., Vienna, VA, PRT-149514.

The applicant requests the issuance of permits for the import and re-export of 12 captive-born tigers (Panthera tigris), from and to Germany for the purpose of enhancement of the species through conservation education. This notification covers activities to be conducted by the applicant over a three-year period and re-export of any potential progeny born within the United States.

Dated: September 7, 2007.
Lisa J. Lierheimer,
Senior Permit Biologist, Branch of Permits, Division of Management Authority.

[FR Doc. E7-19597 Filed 10-3-07; 8:45 am]

BILLING CODE 4310-55-P